DEPARTMENT OF COMMERCE

National Oceanic and Atmospheric Administration

RIN 0648-XC490

Pacific Fishery Management Council; Public Meeting

AGENCY: National Marine Fisheries Service (NMFS), National Oceanic and Atmospheric Administration (NOAA), Commerce.

ACTION: Notice; public meeting.

SUMMARY: The Pacific Fishery Management Council's (Council) will hold a workshop on electronic monitoring in the rationalized groundfish trawl fishery.

DATES: The workshop will be convened Monday, February 25, 2013 at 10 a.m. and adjourn Wednesday, February 27, 2013. Upon completion of business Monday and Tuesday, the workshop will recess for the night, and on Wednesday the workshop will adjourn no later than 2 p.m.

ADDRESSES: The meeting will be held at the Embassy Suites Hotel, Juniper Room, 7900 NE 82nd Ave., Portland, OR 97220.

Council address: Pacific Fishery Management Council, 7700 Ambassador Pl., Suite 101, Portland, OR 97220-1384.

FOR FURTHER INFORMATION CONTACT: Mr. Jim Seger, Pacific Fishery Management Council; telephone: (503) 820-2280.

SUPPLEMENTARY INFORMATION: The purpose of the workshop is to develop the policy context and identify necessary elements for a thorough Magnuson-Stevens Act (MSA) process to consider possible regulatory changes providing for the use of electronic monitoring to adjust the current 100 percent catch observer coverage requirement in the West Coast groundfish trawl catch share program. Workshop recommendations will be provided to the Council for consideration at its April 2013 meeting.

Although non-emergency issues not contained in the meeting agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2280 ext 425 or toll free (1-866) 806-7204 at least 5 days prior to the meeting date.

Authority: 16 U.S.C. 1801 et seq.

Dated: February 5, 2013.
Tracey L. Thompson,
Acting Deputy Director, Office of Sustainable Fisheries, National Marine Fisheries Service.

[FR Doc. 2013-02869 Filed 2-7-13; 8:45 am]

BILLING CODE 3510-22-P